DEPARTMENT OF AGRICULTURE

Forest Service

Extension of the Comment Period: The Village at Wolf Creek Access Project Draft Environmental Impact Statement

AGENCY: Forest Service, USDA.

ACTION: Extension of Comment Period

SUMMARY: The United States Department of Agriculture (USDA), Forest Service (USFS), Rio Grande National Forest announces the extension of the comment period for the Village at Wolf Creek Access Project Draft Environmental Impact Statement. The period ends October 16, 2012.

Dated: October 4, 2012.
Dan S. Dallas,
Forest Supervisor/Center Manager.

[FR Doc. 2012-25216 Filed 10-11-12; 8:45 am]

BILLING CODE 3410-11-P